DEPARTMENT OF HEALTH AND HUMAN SERVICES

Centers for Medicare & Medicaid Services

42 CFR Part 412

[CMS-1671-P]

RIN 0938-AS99

Medicare Program; Inpatient Rehabilitation Facility Prospective Payment System for Federal Fiscal Year 2018

Correction

In proposed rule document 2017-08428 beginning on page 20690 in the issue of Wednesday, make the following correction:

On page 20705, in table 6, the heading for columns two and three, should respectively read “Rural Facility A (Spencer Co., IN)” and “Urban Facility B (Harrison Co., IN)” respectively.

[FR Doc. C1-2017-08428 Filed 5-12-17; 8:45 am]

BILLING CODE 1505-01-D